DEPARTMENT OF ENERGY

Federal Energy Regulatory Commission

18 CFR Part 35

[Docket No. RM02-1-000]

Standardizing Generator Interconnection Agreements and Procedures; Notice of Extension of Time

December 14, 2001.

AGENCY: Federal Energy Regulatory Commission, DOE.

ACTION: Notice of extension of time.

SUMMARY: On October 25, 2001, the Federal Energy Regulatory Commission issued an Advance Notice of Proposed Rulemaking (ANOPR) seeking comments on a standard generator interconnection agreement and procedures that would be applicable to all public utilities that own, operate or control transmission facilities under the Federal Power Act, 66 FR 55140 (November 1, 2001). The date for filing comments is being extended at the request of various interested parties.

DATES: Comments on the filing of a single consensus document are extended to and including January 11, 2002. Comments on issues posed by the ANOPR shall be filed on or before January 25, 2002.

ADDRESSES: Federal Energy Regulatory Commission, 888 First Street, NE., Washington, DC 20426.

FOR FURTHER INFORMATION CONTACT: Linwood A. Watson, Jr., Acting Secretary 888 First Street, NE., Washington, DC 20426 (202) 208-0400.

On December 14, 2001, the Generator Interconnection Coalition ¹ (Coalition), on behalf of its members, filed its Status Report on its Consensus Process and (1) an interim draft standard connection agreement and (2) an interim draft standard interconnection procedures document on which Coalition Members have made substantial progress (Status Report), in response to the Commission's Advance Notice of Proposed Rulemaking (ANOPR) issued October 25, 2001, in the above-docketed proceeding. With the Status Report, the Coalition also requested an extension of time to complete the consensus process and to respond fully to the issues raised by the Commission in its ANOPR. In its motion, the Coalition states that finalizing consensus documents will require the continued significant investment of time and resources on the part of the Coalition Members and that an extension would allow Coalition Members to integrate and finalize consensus documents that are consistent with the Commission's mandate in the ANOPR. The motion also states that an extension will allow all stakeholders in the ANOPR process to have the opportunity to seek clarification and comment orally on the draft documents during the plenary meetings.

¹ The Coalition includes representatives from: generators, marketers, transmission owners, industrial power producers, transmission dependent utilities, regional transmission organizations, independent system operators, distributed resources and state commissions. A list of the Coalition Members is included in Attachment 1 of the Coalition's Status Report.

Upon consideration, notice is hereby given that an extension of time to file a single consensus document is granted to and including January 11, 2002. Comments on issues posed by the ANOPR shall be filed on or before January 25, 2002.

Linwood A. Watson, Jr.,
Acting Secretary.

[FR Doc. 01-31442 Filed 12-20-01; 8:45 am]

BILLING CODE 6717-01-P